DEPARTMENT OF AGRICULTURE

U.S. Codex Office

Codex Alimentarius Commission: Meeting of the Codex Committee on Pesticide Residues

AGENCY: U.S. Codex Office, USDA.

ACTION: Notice of public meeting and request for comments.

SUMMARY: The U.S. Codex Office is sponsoring a public meeting on June 17, 2021. The objective of the public meeting is to provide information and receive public comments on agenda items and draft United States (U.S.) positions to be discussed at the 52nd Session of the Codex Committee on Pesticide Residues (CCPR) of the Codex Alimentarius Commission, which will convene virtually on July 26-31, 2021. The U.S. Manager for Codex Alimentarius and the Acting Deputy Under Secretary for Trade and Foreign Agricultural Affairs recognize the importance of providing interested parties the opportunity to obtain background information on the 52nd Session of the CCPR and to address items on the agenda.

DATES: The public meeting is scheduled for June 17, 2021, from 1:00-3:00 EDT.

ADDRESSES: The public meeting will take place via Video Teleconference only. Documents related to the 52nd Session of the CCPR will be accessible via the internet at the following address: http://www.fao.org/fao-who-codexalimentarius/meetings/detail/en/?meeting=CCPR&session=52.CAPT David Miller, U.S. Delegate to the 52nd Session of the CCPR, invites U.S. interested parties to submit their comments electronically to the following email address: miller.davidj@epa.gov. Registration: Attendees may register to attend the virtual public meeting here: https://www.zoomgov.com/meeting/register/vJIsdO2spz8sH8hmjG-maF8BYauGrD4GaQY or by emailing CAPT David Miller(miller.davidj@epa.gov) by June 14, 2021.

FOR FURTHER INFORMATION CONTACT:

For Further Information about the 52nd Session of the CCPR, contact U.S. Delegate, CAPT David Miller Chief, Chemistry and Exposure Branch, Health Effects Division, Office of Pesticide Programs at Email: miller.davidj@epa.gov or Phone: +1 (703)328-8755.

For Further Information about the public meeting Contact: U.S. Codex Office, 1400 Independence Avenue SW, Room 4861, South Agriculture Building, Washington, DC 20250. Phone (202) 720 7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees and by promoting their adoption and implementation by governments, Codex seeks to protect the health of consumers and ensure fair practices in the food trade.

The Terms of Reference of the CCPR are:

(a) to establish maximum limits for pesticide residues in specific food items or in groups of food;

(b) to establish maximum limits for pesticide residues in certain animal feeding stuffs moving in international trade where this is justified for reasons of protection of human health;

(c) to prepare priority lists of pesticides for evaluation by the Joint FAO/WHO Meeting on Pesticide Residues (JMPR);

(d) to consider methods of sampling and analysis for the determination of pesticide residues in food and feed;

(e) to consider other matters in relation to the safety of food and feed containing pesticide residues; and,

(f) to establish maximum limits for environmental and industrial contaminants showing chemical or other similarity to pesticides, in specific food items or groups of food.

The CCPR is hosted by China. The United States attends the CCPR as a member country of Codex.

Issues to be Discussed at the Public Meeting

The following items on the Agenda for the 52nd Session of the CCPR will be discussed during the public meeting:

• Adoption of the Agenda

• Appointment of Rapporteurs

• Matters referred to CCPR by CAC and/or other subsidiary bodies

• Matters of interest arising from FAO and WHO

• Matters of interest arising from other international organizations

• Report on items of general consideration arising from the 2019 JMPR extraordinary and regular meetings

• Report on responses to specific concerns raised by CCPR arising from the 2019 JMPR regular meeting

• Proposed MRLs for pesticides in food and feed

• Revision of the Classification of Food and Feed

○ Class C—Primary feed commodities including issues related to fodder commodities

Type 11: Primary feed commodities of plant origin Proposed:

Group 050: Legume feed products

Group 051: Cereal grains and grasses (including pseudocereals) feed products

Group 052: Miscellaneous feed products

○ Class D—Processed foods of plant origin, all types in Class D, proposed groups in different types

○ Proposed tables on examples of representative commodities for commodity groups in different types under Class C and Class D (for inclusion in the Principles and Guidance for the Selection of Representative Commodities for the Extrapolation of MRLs for Pesticides to Commodity Groups (CXG 84-2012))

○ Impact of the revised types in Class C and Class D on CXLs

○ Class B—Primary food commodities of animal origin Harmonization of meat mammalian maximum residue limits between CCPR and CCRVDF

○ Impact of the revised types in Class A on CXLs in the Database

• Proposed draft Guidelines for compounds of low public health concern that could be exempted from the establishment of CXLs

• Discussion paper on the opportunity to revise the Guidelines on the Use of Mass Spectrometry for the Identification, Confirmation and Quantitative Determination Of Pesticide Residues(CXG 56-2005)

• Discussion paper on monitoring the purity and stability of certified reference material of multi-class pesticides during prolonged storage

• Discussion paper on the review of the International Estimate of Short-Term Intake (IESTI) equations

• Discussion paper on opportunities and challenges for the JMPR participation in an international review of a new compound

• Discussion paper on the management of unsupported compounds

• National registrations of pesticides

• Establishment of Codex Schedules and Priority Lists of Pesticides

• Other Business and Future Work

Public Meeting

At the June 17, 2021, public meeting, draft U.S. positions on the agenda items will be described and discussed, and attendees will have the opportunity to pose questions and offer comments. Written comments may be offered at the meeting or sent to CAPT David Miller, U.S. Delegate for the 52nd Session of the CCPR (see ADDRESSES). Written comments should state that they relate to activities of the 52nd Session of the CCPR.

Additional Public Notification

Public awareness of all segments of rulemaking and policy development is important. Consequently, the U.S. Codex Office will announce this Federal Register publication on-line through the USDA web page located at: http://www.usda.gov/ codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC, on April 5, 2021.
Mary Lowe,
U.S. Manager for Codex Alimentarius.

[FR Doc. 2021-07399 Filed 4-15-21; 8:45 am]

BILLING CODE P